DEPARTMENT OF ENERGY

Federal Energy Regulatory Commission

Combined Notice of Filings #1

January 12, 2011.

Take notice that the Commission received the following electric rate filings:

Docket Numbers: ER10-116-002.

Applicants: Trans Bay Cable LLC.

Description: Trans Bay Cable LLC submits update to its 10/23/09 filing re Cost of Service Rate Update.

Filed Date: 01/11/2011.

Accession Number: 20110112-0201.

Comment Date: 5 p.m. Eastern Time on Tuesday, February 01, 2011.

Docket Numbers: ER10-2721-001.

Applicants: El Paso Electric Company.

Description: El Paso Electric Company submits tariff filing per 35: Compliance Refiling of Market-Based Rate Tariff to be effective 9/17/2010.

Filed Date: 01/10/2011.

Accession Number: 20110110-5101.

Comment Date: 5 p.m. Eastern Time on Monday, January 31, 2011.

Docket Numbers: ER10-2288-002.

Applicants: Optim Energy Marketing LLC.

Description: Optim Energy Marketing LLC submits tariff filing per 35: Optim MBR Tariff Compliance filing to be effective 8/20/2010.

Filed Date: 01/11/2011.

Accession Number: 20110111-5000.

Comment Date: 5 p.m. Eastern Time on Tuesday, February 01, 2011.

Docket Numbers: ER11-127-001.

Applicants: PJM Interconnection, L.L.C.

Description: PJM Interconnection, L.L.C. submits tariff filing per 35: Compliance filing to Original Service Agreement No. 2656 to be effective 9/17/2010.

Filed Date: 01/11/2011.

Accession Number: 20110111-5046.

Comment Date: 5 p.m. Eastern Time on Tuesday, February 01, 2011.

Docket Numbers: ER11-1993-001.

Applicants: Southern California Edison Company.

Description: Southern California Edison Company submits tariff filing per 35: Resubmission of the Eldorado Co-Tenancy and Communication Agreements to be effective N/A.

Filed Date: 01/10/2011.

Accession Number: 20110110-5157.

Comment Date: 5 p.m. Eastern Time on Monday, January 31, 2011.

Docket Numbers: ER11-2041-001.

Applicants: Innovative Energy Systems, LLC.

Description: Compliance Refund Report Filing of Innovative Energy Systems, LLC.

Filed Date: 01/10/2011.

Accession Number: 20110110-5235.

Comment Date: 5 p.m. Eastern Time on Monday, January 31, 2011.

Docket Numbers: ER11-2042-001.

Applicants: Seneca Energy II, LLC.

Description: Compliance Refund Report Filing of Seneca Energy II, LLC.

Filed Date: 01/10/2011.

Accession Number: 20110110-5236.

Comment Date: 5 p.m. Eastern Time on Monday, January 31, 2011.

Docket Numbers: ER11-2097-001.

Applicants: Oklahoma Gas and Electric Company.

Description: Oklahoma Gas and Electric Company submits tariff filing per 35: WM-1 and WC-1 Tariff Compliance Filing to be effective 11/12/2010.

Filed Date: 01/10/2011.

Accession Number: 20110110-5000.

Comment Date: 5 p.m. Eastern Time on Monday, January 31, 2011.

Docket Numbers: ER11-2166-001.

Applicants: Planet Energy (USA) Corp.

Description: Planet Energy (USA) Corp. submits tariff filing per 35.17(b): Planet Energy USA Supplement to MBR Application to be effective 1/1/2011.

Filed Date: 01/11/2011.

Accession Number: 20110111-5191.

Comment Date: 5 p.m. Eastern Time on Tuesday, February 01, 2011.

Docket Numbers: ER11-2167-001.

Applicants: Planet Energy (Pennsylvania) Corp.

Description: Planet Energy (Pennsylvania) Corp. submits tariff filing per 35.17(b): Planet Energy Pennsylvania Supplement to MBR Application to be effective 1/1/2011.

Filed Date: 01/11/2011.

Accession Number: 20110111-5185.

Comment Date: 5 p.m. Eastern Time on Tuesday, February 01, 2011.

Docket Numbers: ER11-2168-001.

Applicants: Planet Energy (Maryland) Corp.

Description: Planet Energy (Maryland) Corp. submits tariff filing per 35.17(b): Planet Energy Maryland Supplement to MBR Application to be effective 1/1/2011.

Filed Date: 01/11/2011.

Accession Number: 20110111-5183.

Comment Date: 5 p.m. Eastern Time on Tuesday, February 01, 2011.

Docket Numbers: ER11-2179-001.

Applicants: Planet Energy (New York) Corp.

Description: Planet Energy (New York) Corp. submits tariff filing per 35.17(b): Planet Energy New York Supplement to MBR Application to be effective 1/1/2011.

Filed Date: 01/11/2011.

Accession Number: 20110111-5184.

Comment Date: 5 p.m. Eastern Time on Tuesday, February 01, 2011.

Docket Numbers: ER11-2589-001.

Applicants: Evraz Claymont Steel, Inc.

Description: Evraz Claymont Steel, Inc. submits tariff filing per 35.17(b): MBRA Tariff to be effective 2/23/2011.

Filed Date: 01/11/2011.

Accession Number: 20110111-5151.

Comment Date: 5 p.m. Eastern Time on Tuesday, February 01, 2011.

Docket Numbers: ER11-2665-000.

Applicants: Southwest Power Pool, Inc.

Description: Southwest Power Pool, Inc. submits tariff filing per 35.13(a)(2)(iii): 2066 Westar Energy, Inc. NITSA and NOA to be effective 1/1/2011.

Filed Date: 01/11/2011.

Accession Number: 20110111-5122.

Comment Date: 5 p.m. Eastern Time on Tuesday, February 01, 2011.

Docket Numbers: ER11-2666-000.

Applicants: Louisville Gas and Electric Company.

Description: Louisville Gas and Electric Company submits tariff filing per 35: 1_11_11 Order 676E_Modify OATT Sect 4 to be effective 4/1/2011.

Filed Date: 01/11/2011.

Accession Number: 20110111-5126.

Comment Date: 5 p.m. Eastern Time on Tuesday, February 01, 2011.

Docket Numbers: ER11-2667-000.

Applicants: New England Power Pool Participants Committee.

Description: New England Power Pool Participants Committee submits tariff filing per 35.13(a)(2)(iii): 122nd Agreement to be effective 3/15/2011.

Filed Date: 01/11/2011.

Accession Number: 20110111-5229.

Comment Date: 5 p.m. Eastern Time on Tuesday, February 01, 2011.

Docket Numbers: ER11-2668-000.

Applicants: PSEG Energy Resources & Trade LLC, PSEG Fossil LLC.

Description: Filing in Compliance with the requirements of the RMR agreement of PSEG Energy Resources & Trade LLC, et. al.

Filed Date: 01/10/2011.

Accession Number: 20110110-5237.

Comment Date: 5 p.m. Eastern Time on Monday, January 31, 2011.

Docket Numbers: ER11-2669-000.

Applicants: ISO New England Inc.

Description: ISO New England Inc. Resource Termination Filing (EnerNOC).

Filed Date: 01/11/2011.

Accession Number: 20110111-5266.

Comment Date: 5 p.m. Eastern Time on Tuesday, February 01, 2011.

Take notice that the Commission received the following electric reliability filings:

Docket Numbers: RR09-6-003.

Applicants: North American Electric Reliability Corp.

Description: Errata of the North American Electric Reliability Corporation to January 10, 2011 filing.

Filed Date: 01/12/2011.

Accession Number: 20110112-5017.

Comment Date: 5 p.m. Eastern Time on Monday, January 24, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE, Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2011-1098 Filed 1-19-11; 8:45 am]

BILLING CODE 6717-01-P